DEPARTMENT OF EDUCATION

Student Assistance General Provisions, Federal Perkins Loan, Federal Work-Study, Federal Supplemental Educational Opportunity Grant, Federal Family Education Loan, William D. Ford Federal Direct Loan, Federal Pell Grant, and Leveraging Educational Assistance Partnership Programs

AGENCY: Department of Education.

ACTION: Notice of required electronic processes and related system requirements.

SUMMARY: We give notice that, beginning with the 2005-2006 award year, institutions participating in the Federal student aid programs must ensure they participate in the designated electronic processes included in this notice and satisfy the hardware and software specifications described in this notice. The Federal student aid programs are authorized under Title IV of the Higher Education Act of 1965, as amended (Title IV, HEA Programs).

SUPPLEMENTARY INFORMATION: The Student Assistance General Provisions regulations in 34 CFR 668.16(o) provide, in part, that to be administratively capable an institution must participate in electronic processes designated by the Secretary. These processes were first identified in a notice published in the Federal Register on September 19, 1997 (62 FR 49414). In that notice, we also provided information regarding the hardware and software requirements needed for an institution to participate in the designated electronic processes. Because of advances in technology, we updated those hardware and software requirements in a Federal Register notice published on December 22, 2000 (65 FR 80841).

In this notice, we update both the designated electronic processes that an institution must participate in and the software and hardware requirements (presented as a minimum system configuration and an optimal system configuration) that an institution must have to participate in these processes. Most of the electronic processes included in this notice are the same processes that were included in the previous Federal Register notices, although the specific technology and/or names of those processes may have changed (for example, the Student Aid Information Gateway (SAIG) has replaced the Title IV Wide Area Network (TIV WAN)).

A new process included in this notice is that all institutions must send and receive origination and disbursement data for the Federal Pell Grant Program and the Federal Direct Loan Program to our Common Origination and Disbursement (COD) system using the Extensible Markup Language (XML) “Common Record: COD.” Beginning with the 2005-2006 award year, this requirement will apply to all institutions, including COD phase-in participants that currently submit and receive information using flat-file record formats. Additional information on this requirement is provided in item 11 under Designated Electronic Processes below.

Designated Electronic Processes

To be in compliance with 34 CFR 668.16(o), an institution must:

1. Participate in the Student Aid Internet Gateway (SAIG);

2. Use our electronic process whenever it is required to submit or update its Application for Approval to Participate in the Federal Student Aid Programs (for example, when the institution initially applies to participate, when it is recertified, or when it reports required changes, or seeks to be reinstated);

3. Use our electronic processes to submit its Fiscal Operations Report and Application to Participate (FISAP) and other required reports or requests for the campus-based programs (Federal Perkins Loan, Federal Work-Study, Federal Supplemental Educational Opportunity Grant);

4. Electronically receive Institutional Student Information Records (ISIRs) from our Central Processing System (CPS) using the Student Aid Information Gateway (SAIG);

5. Use the Student Aid Information Gateway (SAIG) and approved electronic processes when submitting a Free Application for Federal Student Aid (FAFSA) on behalf of an applicant for Federal student aid to our Central Processing System (CPS) or when submitting corrections or updates to FAFSA data to CPS for an applicant;

6. If not already listed, add itself to the Central Processing System (CPS) record for a student it wishes to consider for Title IV assistance;

7. Have on-line Internet access to the National Student Loan Data System (NSLDS) and submit to NSLDS its Federal Perkins Loan data, its student enrollment records, its Title IV program overpayments, and its NSLDS Transfer Monitoring records using either the offered Student Aid Information Gateway (SAIG) services or the Internet, as appropriate;

8. Access the “Information for Financial Aid Professionals” (IFAP) Web site;

9. Electronically submit its annual compliance and financial statement audits, and any other required audits;

10. Receive its draft and official cohort default rate data electronically; and

11. Beginning with the 2005-2006 award year, send and receive origination and disbursement data for the Federal Pell Grant Program and the Federal Direct Loan Program to the COD system using the Student Aid Information Gateway (SAIG) and the Extensible Markup Language (XML) “Common Record: COD” that complies with the published schema for each award year.

Technical Specifications

For an institution to effectively and efficiently participate in the designated electronic processes listed above, it must obtain appropriate software and hardware. While many institutions currently participate in these electronic processes, at least partially, using mainframe technology, many other institutions, and to some extent many of the mainframe schools, use a desktop computing environment for all or part of their Title IV student aid processing. Specifically, many institutions use our EDCONNECT process for receiving and sending data over the SAIG. Also, many institutions use one or more of the processes included in our EDExpress suite of products. Accordingly, we are providing the following minimum and optimal hardware and software configurations as part of this electronic processes notice.

Although all of the required electronic processes included in this notice can be performed using the minimum configuration, we strongly recommend the optimal configuration, particularly in cases where an institution sends or receives 4,000 or more records in an XML document (batch). This is because the new XML file formats used by EDExpress and COD (and in the future by CPS) are larger and require greater storage and computing power. For the same reason, while we include “high speed Internet connection” only in the Optimal Configuration, we encourage institutions to consider moving away from a “dial-up” connection if they intend on submitting or receiving large amounts of data. This will significantly reduce transmission time and will increase the probability of an uninterrupted transmission session.

System Configurations
| Minimum configuration | Optimal configuration
IBM or Fully IBM-compatible PC | 1.2 GHz Processor | 2.8 GHz/333 MHz Processor.
| 512 MB RAM | 1 GB RAM.
| 60 GB Hard Drive | 80 GB Hard Drive.
| 48x CD-ROM Drive (CD-RW recommended) | 48x CD-ROM Drive (CD-RW recommended).
| Windows compatible keyboard and mouse | Windows compatible keyboard and mouse.
Monitor and Video Card | Capable of Super Video Graphics Adapter (SVGA) resolution (800 x 600) or higher | Capable of Super Video Graphics Adapter (SVGA) resolution (800 x 600) or higher.
Internet Connection | 56 Kbps Modem (meets or is upgradeable to V.90 standard) | High speed Internet connection (i.e., DSL).
Printer | Laser printer capable of printing on standard paper (8.5″ x 11″) | Laser printer capable of printing on standard paper (8.5″ x 11″).
Operating System | Windows 2000 or Windows XP Professional recommended (FSA will support Windows 98/98SE/ME only until June 30, 2006) | Windows 2000 or Windows XP Professional recommended (FSA will support Windows 98/98SE/ME only until June 30, 2006).

FOR FURTHER INFORMATION CONTACT: For general questions relating to these requirements, contact John Kolotos, U.S. Department of Education, 400 Maryland Avenue, SW., (UCP room 113F1), Washington, DC 20202. Telephone: (202) 377-4027, FAX: (202) 275-4552, or by e-mail: john.kolotos@ed.gov.

For questions related to the Student Aid Information Gateway (SAIG) and to the Central Processing System (CPS), contact CPS/SAIG Technical Support at 1-800-330-5947.

For questions related to the Application To Participate, the Information for Financial Aid Professionals (IFAP) Web site, and the electronic submission of audits, contact the Customer Service Call Center for Schools at 1-800-433-7327.

For questions related to the campus-based programs, contact the Campus-Based Call Center at 1-877-801-7168.

For questions related to the National Student Loan Data System (NSLDS), contact NSLDS Customer Service at 1-800-999-8219.

For questions related to the Common Origination and Disbursement (COD) system, contact the COD School Relations Center at 1-800-848-0978 for the Federal Direct Loan Program or 1-800-474-7268 (1-800-4PGRANT) for the Federal Pell Grant Program.

If you use a telecommunications device for the deaf (TDD), you may call the Federal Information Relay Service at 1-800-877-8339.

Individuals with disabilities may obtain this document in an alternative format (e.g., Braille, large print, audiotape, or computer diskette) on request to John Kolotos using the contact information listed above.

Electronic Access to This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Program Authority: 20 U.S.C. 1070a, 1070b-1070b-4, 1070c-1070c-4, 1071-1087-2, 1087a-1087j, 1087aa-1087ii, 1094, and 1099c; 42 U.S.C. 2751-2756b.

(Catalog of Federal Domestic Assistance numbers: 84.007 Federal Supplemental Educational Opportunity Grant (FSEOG) Program; 84.032 Federal Family Education Loan (FFEL) Programs; 84.033 Federal Work-Study (FWS) Program; 84.038 Federal Perkins (Perkins) Loans; 84.063) Federal Pell Grant (Pell) Program; 84.069 Leveraging Educational Assistance Partnership (LEAP) Programs; and 84.268 William D. Ford Federal Direct Loan (Direct Loan) Programs)
Dated: September 8, 2004.
Theresa S. Shaw,
Chief Operating Officer, Federal Student Aid.

[FR Doc. E4-2185 Filed 9-13-04; 8:45 am]

BILLING CODE 4000-01-P